DEPARTMENT OF HOMELAND SECURITY

[Docket Number DHS-2021-0027]

Agency Information Collection Activities: DHS Civil Rights and Civil Liberties Complaint and Privacy Waiver Form

AGENCY: Department of Homeland Security (DHS).

ACTION: 60-Day notice and request for comments.

SUMMARY: The Department of Homeland Security, will submit the following Information Collection Request (ICR) to the Office of Management and Budget (OMB) for review and clearance in accordance with the Paperwork Reduction Act of 1995.

DATES: Comments are encouraged and will be accepted until August 23, 2021. This process is conducted in accordance with 5 CFR 1320.1.

ADDRESSES: You may submit comments, identified by docket number Docket # DHS-2021-0027 at:

○ Federal eRulemaking Portal: http://www.regulations.gov. Please follow the instructions for submitting comments.

Instructions: All submissions received must include the agency name and docket number Docket # DHS- 2021-0027. All comments received will be posted without change to http://www.regulations.gov, including any personal information provided.

Docket: For access to the docket to read background documents or comments received, go to http://www.regulations.gov.

SUPPLEMENTARY INFORMATION: The U.S. Department of Homeland Security (DHS), Office for Civil Rights and Civil Liberties (CRCL) reviews and investigates civil rights and civil liberties complaints filed by the public regarding U.S. Department of Homeland Security (DHS) policies and activities. Under 6 U.S.C. 345 and 42 U.S.C. 2000ee-1, CRCL reviews and assesses allegations involving a range of alleged civil rights and civil liberties abuses, such as:

• Discrimination based on race, ethnicity, national origin, religion, sex, sexual orientation, gender identity, or disability;

• Violation of rights while in immigration detention or as subject of immigration enforcement;

• Discrimination or inappropriate questioning related to entry into the United States;

• Violation of due process rights, such as the right to timely notice of charges or access to lawyer;

• Violation of confidentiality provisions of the Violence Against Women Act;

• Physical abuse or any other type of abuse;

• Denial of meaningful access to DHS or DHS-supported programs, activities, or services due to limited English proficiency and

• Any other civil rights, civil liberties, or human rights violation related to a Department program or activity, including allegations of discrimination by an organization or program that receives financial assistance from DHS.

CRCL also reviews and investigates human rights complaints under Executive Order 13107, disability accommodation complaints under Section 504 of the Rehabilitation Act of 1973, and inaccessible Information and Communication Technology (ICT) complaints under Section 508 of the Rehabilitation Act, as amended by the Workforce Investment Act of 1998 (Pub. L. 105-220), codified at 29 U.S.C. 794. The information collected on this form will allow CRCL to review and investigate civil rights and civil liberties complaints filed by the public regarding DHS programs and activities.

CRCL submits copies all external allegations of civil rights and civil liberties violations within its jurisdiction that it receives to the DHS Office of Inspector General (OIG) for review because OIG has the right of first refusal to investigate any allegations. If the OIG declines to investigate the allegations, CRCL may investigate. CRCL coordinates with DHS Components and the OIG regarding matters that CRCL opens as complaint investigations as well as some it decides not to investigate. In general, CRCL shares the incoming information with the Components involved and coordinates with the Components throughout a CRCL investigation. As a result of its complaint investigations, CRCL issues recommendations to DHS Components to address issues of concern and to enhance the agency's civil rights and civil liberties protections. CRCL has also engaged with Components on the implementation of such recommendations.

In addition, the information provided is entered into a CRCL complaint management system (CMS) and may be used by CRCL to track allegations and identify trends and systemic issues that are within CRCL's jurisdiction regardless of whether CRCL investigates an individual allegation. CRCL has used information from these database records to notify DHS Components of issue areas and locations that may warrant closer attention.

Information can be submitted to CRCL via U.S. mail, email, fax, or telephone and may be initiated by members of the public, federal agencies, or agency personnel, non-governmental organizations, media reports or other sources. The use of the complaint form is optional.

The form is in a fillable accessible PDF format and can be submitted by U.S. mail, email, or fax to CRCL. The use of this form provides an efficient means for collecting and processing required data and information useful to conduct an investigation. To minimize administrative burden on complainants and the Department, submission of information electronically, via email, is the fastest way to reach CRCL. Information provided by complainants is maintained in electronic format, so provided the information electronically will further minimize administrative burden.

If a complainant is unable to or does not wish to submit their information electronically, information can be submitted via U.S. mail, fax, or phone call. It is noted on CRCL's website that postal mail can take up to 20 business days. CRCL is about the launch a new CMS that would support other means of submitting a complaint (e.g., web portal) and these are enhancements that will be considered in the future.

This information collection does not have an impact on small businesses or other small entities.

If the information collection is not conducted or is conducted less frequently, CRCL may not be able to effectively fulfill its statutory obligation to the public to review and investigate allegations involving alleged civil rights and civil liberties abuses regarding DHS polices and activities.

Consequences for not using the fillable form include overall delays in processing and an increased frequency in need to follow up with complainants to obtain the types of information requested on the form.

The assurance of confidentiality provided to the respondents for this information collection will be provided by: CRCL's statute under 6 U.S.C. 345, 42 U.S.C. 2000ee-1; the Privacy Impact Assessment for the CRCL Complaint Form and Privacy Waiver; and the Systems of Record Notice: Department of Homeland Security/ALL-029 Civil Rights and Civil Liberties Records System of Records. This is a new information collection and, therefore, there are no changes.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: DHS Civil Rights and Civil Liberties Complaint and Privacy Waiver Form.

OMB Number: 1600-NEW.

Frequency: On occasion.

Affected Public: Members of the Public or non-government organizations.

Number of Respondents: 692.

Estimated Time per Respondent: 1.

Total Burden Hours: 692.

Robert Porter Dorr,
Executive Director, Business Management Directorate.

[FR Doc. 2021-13210 Filed 6-23-21; 8:45 am]

BILLING CODE 9112-FL-P